EXPORT-IMPORT BANK OF THE U.S.

[Public Notice 2012-0345]

Agency Information Collection Activities: Comment Request

AGENCY: Export-Import Bank of the U.S.

ACTION: Submission for OMB review and comments request.

Form Title: Annual Competitiveness Report Survey of Exporters and Bankers.

SUMMARY: The Export-Import Bank of the United States (Ex-Im Bank), as a part of its continuing effort to reduce paperwork and respondent burden, invites the general public and other Federal Agencies to comment on the proposed information collection, as required by the Paperwork Reduction Act of 1995. Our customers will be able to submit this form electronically.

Ex-Im Bank plans to invite approximately 300 U.S. exporters and commercial lending institutions that have used Ex-Im Bank's short-, medium-, and long-term programs over the previous calendar year with an electronic invitation to participate in the online survey. The proposed survey, modified from the previous survey to account for new policies and programs, will ask participants to evaluate the competitiveness of Ex-Im Bank's programs and how the programs compare to those of foreign credit agencies. Ex-Im Bank will use the responses to develop an analysis of the Bank's competitiveness.

The survey form can be viewed at www.exim.gov/pub/EIB00-02.pdf.

DATES: Comments should be received on or before (60 days after publication) to be assured of consideration.

ADDRESSES: Comments may be submitted through WWW.Regulations.Gov or mailed to Piper Moffatt, Export Import Bank of the United States, 811 Vermont Ave. NW., Washington, DC 20571.

SUPPLEMENTARY INFORMATION: Titles and Form Number: EIB 00-02 Annual Competitiveness Report Survey of Exporters and Bankers.

OMB Number: 3048-0004.

Type of Review: Renewal.

Need and Use: This information will be used to fulfill the statutory mandate (Export-Import Bank Act of 1945, as amended, 12 U.S.C. 635) which directs Ex-Im Bank to report annually to the U.S. Congress any action taken toward providing export credit programs that are competitive with those offered by official foreign export credit agencies. The Act further stipulates that the annual report on competitiveness should include the results of a survey of U.S. exporters and U.S. commercial lending institutions which provide export credit to determine their experience in meeting financial competition from other countries whose exporters compete with U.S. exporters.

Affected Public: This form affects entities involved in the export of U.S. goods and services.

Annual Number of Respondents: 300.

Estimated Time per Respondent: 1.5 hours.

Government Burden Hours: 275 hours.

Estimate Government Burden Cost: $10,648.00.

Frequency of Reporting or Use: Yearly.

Dated: July 19, 2012.
Sharon A. Whitt,
Agency Clearance Officer.

[FR Doc. 2012-18124 Filed 7-24-12; 8:45 am]

BILLING CODE 6690-01-P